DEPARTMENT OF TRANSPORTATION

Federal Aviation Administration

14 CFR Part 71

[Docket No. FAA-2011-1015; Airspace Docket No. 10-AWP-13]

Amendment to Description of VOR Federal Airway V-299; CA

AGENCY: Federal Aviation Administration (FAA), DOT.

ACTION: Final rule; technical amendment.

SUMMARY: This action amends the description of VOR Federal airway V-299 by reinserting wording that excludes the airspace in restricted area R-2519 from the airway.

DATES: Effective date 0901 UTC October 4, 2011.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Background

A review of the description of VOR Federal airway V-299 found that wording excluding the airspace within restricted area R-2519 from the airway was incorrectly deleted in a previous rule amending V-299 that removed reference to another restricted area, R-2520. See (52 FR 5947; February 27, 1987). The exclusionary wording had previously been included in the description of V-299 (45 FR 335; January 2, 1980).

The Rule

This action amends Title 14 Code of Federal Regulations (14 CFR) part 71 to amend the regulatory text of VOR Federal airway V-299 by inserting the words “is excluded” following the words “* * * the airspace within R-2519 below 5,000 feet MSL. * * *”

This is an administrative change to insert wording inadvertently omitted from the airway description; therefore, notice and public procedures under 5 U.S.C. 533(b) are unnecessary.

VOR Federal airways are published in paragraph 6010 of FAA Order 7400.9V dated August 9, 2011, and effective September 15, 2011, which is incorporated by reference in 14 CFR 71.1. The VOR Federal airway listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends an airway description in California to keep it current to ensure the safety of aircraft operations within the National Airspace System.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 6010 VOR Federal Airways

V-299 [Amended]

From Los Angeles, CA, INT Los Angeles 291° and Fillmore, CA, 163° radials; Ventura, CA; Fillmore; to Gorman, CA. The airspace within R-2519 more than 3 statute miles W of Ventura 155° and 331° radials, and the airspace within R-2519 below 5,000 feet MSL is excluded. The portion outside the United States has no upper limit.

Issued in Washington, DC, on September 27, 2011.
Gary A. Norek,
Acting Manager, Airspace, Regulations and ATC Procedures Group.

[FR Doc. 2011-25415 Filed 10-3-11; 8:45 am]

BILLING CODE 4910-13-P